DEPARTMENT OF HEALTH AND HUMAN SERVICES

Centers for Disease Control and Prevention

[Program Announcement 03002]

Public Health Conference Support Cooperative Agreement Program for Human Immunodeficiency Virus Prevention; Notice of Availability of Funds

A. Authority and Catalog of Federal Domestic Assistance Number

This program is authorized under the Public Health Service Act, section 301(a), 42 U.S.C. 241(a), as amended and section 317(a), 42 U.S.C. 247b(a), as amended. The Catalog of Federal Domestic Assistance number is 93.941.

B. Purpose

The Centers for Disease Control and Prevention (CDC) announces the availability of fiscal year (FY) 2003 funds for a cooperative agreement program for Public Health Conference Support for Human Immunodeficiency Virus (HIV) Prevention. This program addresses the Healthy People 2010 focus area of HIV.

The purpose of this program is to provide partial support for specific non-Federal conferences in the areas of health promotion and disease prevention information/education programs. Because conference support by CDC creates the appearance of CDC co-sponsorship, there will be active participation by CDC in the development and approval of those portions of the agenda supported by CDC funds. In addition, CDC reserves the right to approve or reject the content of the full agenda, press events, promotional materials (including press releases), speaker selection, and site selection. CDC funds will not be used for portions of meetings that are not approved.

Measurable outcomes of the program will be in alignment with one or more of the following performance goals for the National Center for HIV, Sexually Transmitted Diseases (STD) and Tuberculosis (TB) Prevention: Strengthen the capacity nationwide to monitor the epidemic, develop and implement effective HIV prevention interventions and evaluate prevention programs.

C. Eligible Applicants

Letters of Intent and applications may be submitted by:

• Public nonprofit organizations.

• Private nonprofit organizations.

• Universities.

• Colleges.

• Technical schools.

• Research institutions.

• Hospitals.

• Community-based organizations.

• Faith-based organizations.

• Federally recognized Indian tribal governments.

• Indian tribes.

• Indian tribal organizations.

• State and local governments or their bona fide agents (this includes the District of Columbia, the Commonwealth of Puerto Rico, the Virgin Islands, the Commonwealth of the Northern Marianna Islands, American Samoa, Guam, the Federated States of Micronesia, the Republic of the Marshall Islands, and the Republic of Palau).

Foreign organizations are not eligible to apply.

Note: Title 2 of the United States Code section 1611 states that an organization described in section 501(c)(4) of the Internal Revenue Code that engages in lobbying activities is not eligible to receive Federal funds constituting an award, grant or loan.

D. Funding

Availability of Funds

Approximately $112,000 is available in FY 2003 to fund approximately 5 awards. It is expected that the average award will be $20,000, ranging from $15,000 to $25,000. It is expected that the awards will begin on or about September 1, 2003, and will be made for a 12-month budget and project period. Funding estimates may change.

Applicants may not request more than $25,000 including indirect cost.

Contingency awards will be made allowing usage of only 10 percent of the total amount to be awarded until a final full agenda is approved by CDC. Funding will be provided to support costs associated with preparation of the agenda. The remainder of funds will be released only upon CDC approval of the final full agenda. CDC reserves the right to terminate co-sponsorship at any time.

Please note that conferences planned for October 1, 2003, through March 31, 2004, will be considered for funding.

Use of Funds

1. CDC funds will not be used for nonapproved portions of meetings. CDC funds may be used for only those parts of the conference specifically supported by CDC as listed on the Notice of Cooperative Agreement Award. CDC funds may be used for direct costs, such as

a. Salaries.

b. Speaker fees.

c. Rental of conference-related equipment.

d. Registration fees.

e. Scholarships.

f. Transportation costs (not to exceed economy class fares) for non-Federal employees.

g. Mileage for local participants.

2. CDC funds may not be used

a. To purchase equipment.

b. To pay honoraria.

c. For organizational dues.

d. To support entertainment.

e. For personal expenses not related to the conference.

f. For travel costs or payment to a Federal employee.

g. For per diem and expenses for local participants.

h. To reimburse indirect costs.

i. To purchase novelty items (e.g., bags, T-shirts, hats, pens) distributed at meetings.

j. To purchase food or drinks.

3. CDC will not fund a conference after it has taken place.

Recipient Financial Participation

Recipient financial participation is required for this program in accordance with this Program Announcement. CDC will not fund more than 75 percent of the total cost of the conference. At least 25 percent of the cost for the conference must be supported with non-federal funds.

Funding Preferences

Preferences for funding may be given for:

1. Ensuring a balance of funded agencies that serve populations in special settings (e.g., correctional institutions, shelters for runaway youth).

2. Ensuring a balance of funded agencies that target under served geographic areas, especially rural populations.

3. Ensuring a balance of funded agencies that target people of color (especially African Americans and Hispanic women of color).

4. Ensuring a balance of funded agencies that provide support of comprehensive primary and secondary prevention programs for persons living with HIV.

No preference will be given to organizations that have received CDC funding in past years.

E. Program Requirements

In conducting activities to achieve the purpose of this program, the recipient will be responsible for the activities under 1. Recipient Activities, and CDC will be responsible for the activities listed under 2. CDC Activities.

1. Recipient Activities

a. Manage all activities related to conference content (e.g., objectives, topics, session design, workshops, special exhibits, speakers, fees, agenda composition, printing). Many of these items may be developed in concert with CDC personnel assigned to support the conference.

b. Provide draft copies of the agenda, objectives, and proposed related activities to the CDC Project Official for review and comment. Submit a copy of the final agenda, objectives, and proposed related activities to the CDC Grants Management Office for approval.

c. Determine and manage all promotional activities (e.g., title, logo, announcements, mailers, press). CDC must review and approve the use of any materials with reference to CDC involvement or support.

d. Manage all registration processes with participants and registrants (e.g., travel, reservations, correspondence, conference materials and hand-outs, badges, registration procedures).

e. Plan, negotiate, and manage conference site arrangements, including all audiovisual needs.

f. Develop the content and manage the activities of the conference.

g. If the proposed conference is or includes a satellite broadcast, recipient will

(1) Provide individual, on-camera rehearsals for all presenters.

(2) Provide at least one full dress rehearsal involving the moderator, all presenters, equipment, visuals, and practice telephone calls at least one day before the actual broadcast and as close to the actual broadcast time as possible.

(3) Provide full scripting and Teleprompter use for the moderator and all presenters.

h. Collaborate with CDC staff in reporting and disseminating conference results, recommendations, and relevant HIV prevention information. This information should be made available to appropriate Federal, State, and local agencies, healthcare providers, HIV/AIDS prevention and service organizations, and the general public.

2. CDC Activities

a. Provide technical assistance through telephone calls, correspondence, and site visits in the areas of program agenda development, implementation, and priority setting related to the cooperative agreement.

b. Provide scientific collaboration for appropriate aspects of the program, including selection of speakers, pertinent scientific information on HIV, preventive measures, and program strategies for the prevention of HIV infection.

c. Review draft agendas. The Grants Management Officer will approve or disapprove the final agenda and proposed related activities prior to release of restricted funds.

d. Assist applicant in reporting and disseminating results, recommendations, and relevant HIV prevention information.

F. Content

Letter of Intent (LOI)

A LOI is required for this program. The Program Announcement title and number must appear in the LOI. The narrative should be no longer than two pages, including the letterhead and signatures, single-spaced, and with one-inch margins. The page limitation must be observed or the LOI will be returned without review.

CDC will review each LOI and determine who can submit a full application. CDC will invite applicants to submit their full applications within 30 days after the LOI due date.

Availability of funds may limit the number of applicants, regardless of merit, who receive an invitation to submit an application.

Applicants must submit an original and two copies of a two-page typewritten LOI that briefly provides the following information:

a. Name of organization.

b. Mailing address.

c. Telephone and fax numbers.

d. Email address.

e. Title of the proposed conference.

f. Location of the proposed conference. (city and State.)

g. Conference dates.

h. Document need for the conference.

i. Purpose of the conference.

j. Potential contribution to HIV/AIDS Prevention.

k. Intended audience (number and description of conference attendees.)

l. Population(s) who will ultimately benefit from the information shared with conference attendees (population consists of persons at risk, i.e., women, men who have sex with men, injecting drug users and persons living with HIV.)

m. The estimated total cost of the conference.

n. The percentage of the total cost (which must be 75 percent or less) being requested from CDC.

o. The relationship of the conference to CDC's Funding Preferences, which are listed in section E.

p. Potential contribution toward the National HIV prevention goals based on the CDC HIV Prevention Strategic Plan:

1. Decrease new infections.

2. Increase knowledge of Serostatus.

3. Increase linkage to prevention, care and treatment.

4. Strengthen monitoring, capacity and evaluation.

Information on HIV prevention methods (or strategies) can include abstinence; monogamy, i.e., being faithful to a single sexual partner; or using condoms consistently and correctly. These approaches can avoid risk (abstinence) or effectively reduce risk for HIV (monogamy, consistent and correct condom use).

q. If applicable, current recipients of CDC HIV funding must provide the award number and title of the funded programs.

Note: No attachments, booklets, or other documents accompanying the LOI will be considered.

Applications

The Program Announcement title and number must appear in the application. Use the information in the Program Requirements, Other Requirements, and Evaluation Criteria sections to develop the application content. Your application will be evaluated on the criteria listed, so it is important to follow them in laying out your program plan.

The narrative should be no more than 12 pages, double-spaced pages (excluding attachments, i.e., assurances), printed on one side, with one-inch margins, and 12-point font. Write your narrative in English only and do not use jargon or abbreviations. Clearly number the pages, and include a complete index to the application and its appendices. The original and two required copies of the application must be submitted unstapled and unbound. Materials that are part of the basic plan should not be in the appendices.

Narrative Content

If your LOI is selected, your application must include the following information:

a. A project summary cover sheet that includes

(1) Name of organization.

(2) Name of conference.

(3) Location of conference.

(4) Date(s) of conference.

(5) Target population(s) who will benefit from the information shared with conference attendees (e.g., youth, women, men who have sex with men, injecting drug users and persons living with HIV.)

(6) Intended audience (number and description of conference attendees.)

(7) Conference objectives.

(8) Dollar amount requested.

(9) Total conference budget.

b. Biographical sketches and job descriptions of the individuals responsible for planning and coordinating the conference.

c. A budget narrative separately identifying and justifying line items to which the requested federal funds would be applied.

d. A draft agenda for the proposed conference.

e. Award number and title of funded programs for current recipients of CDC HIV funding. Applicants must have not submitted the same proposal for review for funding to other parts of CDC.

G. Submission and Deadline

Letter of Intent (LOI) Submission

Cycle I: For conferences during the dates of October 1, 2003, to March 31, 2004, submit LOI on or before May 19, 2003.

Cycle II: Applications requesting support for conferences held during the dates of April 1, 2004, to September 30, 2004, will be solicited in a separate FY 2004 program announcement.

Submit LOIs to the Grants Management Specialist identified in the “Where to Obtain Additional Information” section of this announcement. If your LOI does not arrive on or before the due date, it will not be considered.

Application Forms

Submit the original and two copies of PHS 5161-1 (OMB Number 0920-0428.) Forms are available at the following Internet address: www.cdc.gov/od/pgo/forminfo.htm.

If you do not have access to the Internet, or if you have difficulty accessing the forms on-line, you may contact the CDC Procurement and Grants Office Technical Information Management Section (PGO-TIM) at: 770-488-2700. Application forms can be mailed to you.

Applicants should adhere to the instructions in this program announcement regarding the due date.

Submission Date, Time, and Address

Applications must be received by 4 p.m. eastern standard time, July 28, 2003.

Submit the application to:

Technical Information Management—PA03002, Procurement and Grants Office, Centers for Disease Control and Prevention, 2920 Brandywine Rd, Room 3000, Atlanta, GA 30341-4146.

Applications may not be submitted electronically.

CDC Acknowledgment of Application Receipt

A postcard will be mailed by PGO-TIM, notifying you that CDC has received your application.

Deadline

Letters of intent and applications will be considered as meeting the deadline if they are received before 4 p.m. eastern time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Letter of Intent

The Letter of Intent will be evaluated against the following criteria:

1. The extent to which the applicant demonstrates the need for the conference. (20 points.)

2. The extent to which the applicant discuss the potential contribution to HIV/AIDS prevention. (20 points.)

3. The extent to which high risk populations will ultimately benefit from the conference. (20 points.)

4. The extent to which the conference will have potential contribution toward the National HIV Prevention Goals based on the CDC HIV Prevention Strategic Plan. (15 points.)

5. The extent to which the conference overall objectives are reliable, reasonable, measurable and specific. (15 points.)

6. The extent to which the estimate of the conference cost is reasonable. (10 points.)

7. In addition, the applicant is expected to complete the LOI requirements listed in section F. Content. LOI must also address one or more of the elements listed in section D under Funding Preferences.

Application

Applicants are required to provide measures of effectiveness that will demonstrate the accomplishment of the various identified objectives of the cooperative agreement. Measures of effectiveness must relate to the performance goal stated in section A. Purpose of this announcement. Measures must be objective and quantitative and must measure the intended outcome. These measures of effectiveness must be submitted with the application and will be an element of evaluation.

An independent review group appointed by CDC will evaluate each application against the following criteria:

Note: Use the following headings on your application.

a. Proposed Program and Technical Approach (30 points):

1. The extent to which the proposed conference description fits one of the Funding Preferences listed in section E.

2. The degree to which the conference objectives are specific, measurable, realistic, and time-phased. The extent to which evaluation of the conference assesses increased knowledge and attitudes of the conference participants.

3. The relevance and effectiveness of the proposed agenda in addressing the conference topic(s).

4. The degree to which conference activities relate to the prevention of HIV.

b. Applicant Capability and Experience (25 points):

1. The adequacy of existing resources to administer the program for the proposed conference.

2. The adequacy of existing and proposed facilities for conducting conference activities.

3. The degree to which the applicant has established relationships with related government agencies, community planning groups, and related community groups. Include letters of support (five only) from such agencies, addressing related applicant's capability and experience. Letters of support must explain how the agency will work with the applicant to plan the proposed conference. Letters that do not pertain directly to the proposed conference will not be considered.

4. The extent to which the applicant shows the need for the conference. c. Qualifications of Program Personnel (25 points):

1. The qualifications and experience of the principal staff person, and his or her ability to devote adequate time to provide effective leadership.

2. Program personnel's ability to accomplish conference objectives.

3. Key personnel's (including associate staff persons, discussion leaders, and speakers) education and expertise relative to the conference objectives.

d. Purpose of the conference (20 points):

1. Extent to which the applicant shows that participants and presenters will have the opportunity to interact during the conference, share information on successful and unsuccessful program experiences, and develop collaborative working relationships.

2. The extent to which the applicant shows the need for the conference.

e. Budget Justification and Adequacy of the Facility (this session will be reviewed, but not scored):

The proposed budget will be evaluated on the basis of its reasonableness, concise and clear justification, consistency with the intended use of cooperative agreement funds, and the extent to which the applicant documents financial support from other sources.

I. Other Requirements

Technical Reporting Requirements

Provide CDC with the original plus two copies of the final financial (reporting actual expenses) and performance reports, no more than 90 days after the end of the project period. The performance report should include:

1. The cooperative agreement number.

2. Title of the conference.

3. Name of the principal investigator, program director or coordinator.

4. Name of the organization that conducted the conference.

5. A copy of the agenda.

6. A list of individuals who participated in the formally planned sessions of the meeting.

7. A summary of the meeting results, including a discussion of how the meeting reached the stated conference objectives.

8. The Program Review Panel's report that all written materials have been reviewed as required.

With the prior approval of CDC, copies of proceedings or publications resulting from the conference may be substituted for the final performance report, provided they contain the information requested in items 1 through 8 above.

Send all reports to the Grants Management Specialist identified in the “Where to Obtain Additional Information” section of this announcement.

Additional Requirements

The following additional requirements are applicable to this program. For a complete description of each, see Attachment I of the program announcement, as posted on the CDC web page.

AR-5 HIV Program Review Panel Requirements

AR-8 Public Health System Reporting Requirements

AR-9 Paperwork Reduction Act Requirements

AR-10 Smoke-Free Workplace Requirements

AR-11 Healthy People 2010

AR-12 Lobbying Restrictions

AR-15 Proof of Non-Profit Status

AR-20 Conference Support

Executive Order 12372 does not apply to this program.

J. Where To Obtain Additional Information

This and other CDC announcements, the necessary applications, and associated forms can be found on the CDC Web site, Internet address: http://www.cdc.gov.

Click on “Funding” then “Grants and Cooperative Agreements.”

For general questions about this announcement, contact: Technical Information Management, CDC Procurement and Grants Office, 2920 Brandywine Rd, Room 3000, Atlanta, GA 30341-4146. Telephone: 770-488-2700.

For business management and budget assistance, contact: Diane Childs, Grants Management Specialist, Procurement and Grants Office, Centers for Disease Control and Prevention, 2920 Brandywine Road, Room 3000, Atlanta, GA 30341-4146. Telephone: (770) 488-2876. E-mail address: dec6@cdc.gov.

For business management and budget assistance in the territories contact: Charlotte L. Flitcraft, Contract Specialist, CDC Procurement and Grants Office, 2920 Brandywine Rd., Atlanta, GA 30341-4146. Telephone: 770-488-2632. E-mail address: caf5@cdc.gov.

For program technical assistance, contact: Victoria E. Saho, Project Officer, Technical Information and Communications Branch, Division of HIV/AIDS Prevention—Intervention Research and Support, National Center for HIV, STD and TB Prevention, 1600 Clifton Road, NE., M/S E49, Atlanta, GA 30333. Telephone: (404) 639-5211. E-mail address: vsaho@cdc.gov.

Dated: April 17, 2003.
Sandra R. Manning,
Director, Procurement and Grants Office, Centers for Disease Control and Prevention (CDC).

[FR Doc. 03-9978 Filed 4-22-03; 8:45 am]

BILLING CODE 4163-18-P